DEPARTMENT OF COMMERCE

National Oceanic and Atmospheric Administration

[I.D. 070103A]

Fisheries of the Caribbean, Gulf of Mexico, and South Atlantic; Approved Vessel Monitoring Systems for use in the South Atlantic Rock Shrimp Fishery

AGENCY: National Marine Fisheries Service (NMFS), National Oceanic and Atmospheric Administration (NOAA), Commerce.

ACTION: Notice of vessel monitoring systems; approval.

SUMMARY: This document provides notice of vessel monitoring systems (VMS) approved by NOAA for use by vessels participating in the limited access program for the Rock Shrimp Fishery of the South Atlantic Region and sets forth relevant features of the VMS.

ADDRESSES: To obtain copies of the list of NOAA approved VMS mobile transmitting units and NOAA approved VMS communications service providers, or information regarding the status of VMS systems being evaluated by NOAA for approval, write to NOAA Fisheries Office for Law Enforcement (OLE), 8484 Georgia Avenue, Suite 415, Silver Spring, MD 20910.

To submit a completed and signed checklist, mail or fax it to NOAA Enforcement Southeast, 9721 Executive Center Drive North, Koger Building, St. Petersburg, FL 33702, fax: 727-570-5575.

For addresses regarding approved VMS, see the SUPPLEMENTARY INFORMATION section, under the heading VMS Provider Addresses.

FOR FURTHER INFORMATION CONTACT: For current listing information Mark Oswell, Outreach Specialist, phone: 301-427-2300, fax: 301-427-2055. For questions regarding status of evaluations, contact Jonathan Pinkerton, National VMS Program Manager, phone: 301-427-2300, fax: 301-427-2055. For questions regarding VMS installation or the installation checklist, contact Fred Kyle, Special Agent, or Beverly Lambert, Southeast Divisional VMS Program Manager, NOAA Enforcement Southeast, phone: 727-570-5344.

The public may acquire this notice, installation checklist, and relevant updates via the OLE/SE website http://www.nmfs.noaa.gov/ole/Southeast/SED/VesselMonitoringSystem.htm Telephone requests can be made by calling 727-570-5344.

SUPPLEMENTARY INFORMATION:

I. Background

NMFS issued a final rule on January 16, 2003 (68 FR 2188) to implement Amendment 5 to the Fishery Management Plan for the Shrimp Fishery off the Southern Atlantic States (Amendment 5) which was prepared by the South Atlantic Fishery Management Council (Council). That final rule established a limited access program for the rock shrimp fishery in the exclusive economic zone off Georgia and the east coast of Florida. The final rule requires an owner or operator of a vessel that has been issued a limited access endorsement for South Atlantic rock shrimp to ensure that such vessel has a NMFS-approved, operating VMS on board when on a trip in the South Atlantic. An operating VMS includes an operating mobile transmitting unit on the vessel and a functioning communication link between the unit and NMFS as provided by a NMFS-approved communication service provider. The VMS requirement is effective as of October 14, 2003, or 90 days after publication in the Federal Register of this notice listing the approved transmitting units and associated communications service providers, whichever is later. However, vessel owners and operators should not delay their purchase and installation of a mobile transceiver unit until the last day. Vendors may require extended periods of time to deliver a mobile transceiver unit and to complete its installation.

This notice provides a list of the currently approved VMS (mobile transceiver units and communication service providers) for the South Atlantic rock shrimp limited access fishery and sets forth the features of each VMS. The list of VMS approved by NOAA will be updated and revised as others are approved. The list will be published in the Federal Register and will be posted on the NMFS OLE website and will contain revisions when required.

Partial Reimbursement for Initial VMS Acquisition/Installation

Amendment 5 expressed the Council's intent that costs for an initial VMS acquisition and installation should not exceed $1200, for a vessel owner who receives an initial rock shrimp limited access endorsement. In keeping with that intent, through December 31, 2004, NMFS will partially reimburse such a vessel owner up to $775 for initial acquisition and installation of an approved VMS. The maximum $775 reimbursement is based on the estimated cost of acquisition and installation of the least expensive approved VMS unit ($1975) minus $1200. If actual costs are less than $1975, the reimbursement would be reduced accordingly; in some cases involving special circumstances pertaining to installation of the device, a somewhat larger reimbursement amount may be considered. An owner would be initially responsible for the entire cost. To receive the reimbursement, an owner must provide valid signed receipts for purchase and installation of an approved VMS to NMFS Southeast Regional Office, and confirm with NOAA Enforcement Southeast that the VMS is functioning. NMFS anticipates that most qualified vessel owners will acquire VMS as soon as possible; some may defer temporarily for a variety of reasons. No requests for reimbursement will be accepted after December 19, 2004, and no reimbursements will be granted after December 31, 2004. NMFS will provide additional details regarding the reimbursement procedures to qualified vessel owners.

II. Approved VMS Mobile Transceiver Units

INMARSAT-C Transceivers

The Inmarsat-C satellite communications VMS transmitting units that meet the minimum technical requirements for the South Atlantic Rock Shrimp Fishery are the Thrane & Thrane Fishery “Capsat” (part number TT-3022D-NMFS) and the Thrane & Thrane Fishery “Mini-C” (part number TT-3026-NMFS). The address for the Thrane & Thrane distributor (LandSea Systems) dealer contact is provided under the heading VMS Provider Addresses.

A. Thrane & Thrane TT-3022D-NMFS

The transceiver consists of an integrated GPS/Inmarsat-C unit in the wheelhouse and an antenna mounted atop the vessel. The unit is factory pre-configured for NMFS VMS operations (non-Global Maritime Distress & Safety System (non-GMDSS)). Satellite commissioning services are provided by LandSea Systems personnel.

Automatic GPS position reporting starts after transceiver installation and power activation onboard the vessel. The unit is a car-radio-sized transceiver using a floating 10 to 32 VDC power supply. The unit is configured for automatic reduced position transmissions when the vessel is stationary (i.e., in port). It allows for port stays without power drain or power shut down. The unit restarts normal position transmission automatically when the vessel goes to sea.

The outside antenna, model TT-3005M, is a compact omni-directional Inmarsat-C/GPS antenna, providing operation down to +/-15 deg. angles.

A configuration option is available to automatically send position reports to a private address, such as a fleet management company. Another available option is the ability to send and receive private e-mail and other messages with the purchase and installation of an input device such as a laptop, personal computer, or message display terminal.

B. Thrane & Thrane TT-3026-NMFS

The transceiver consists of an integrated GPS/Inmarsat-C unit mounted atop the vessel. The unit is factory pre-configured for NMFS VMS operations (non-Global Maritime Distress & Safety System (non-GMDSS)). Satellite commissioning services are provided by LandSea Systems personnel.

Automatic GPS position reporting starts after transceiver installation and power activation onboard the vessel. The unit is an integrated transceiver/antenna/GPS design using a floating 10 to 32 VDC power supply. The unit is configured for automatic reduced position transmissions when the vessel is stationary (i.e., in port). It allows for port stays without power drain or power shut down. The unit restarts normal position transmission automatically when the vessel goes to sea.

The TT-3026-NMFS provides operation down to +/-15 degree angles. Although the unit has the capability of two-way communication to send and receive private e-mail and other messages; it can only use this capability when additional equipment not required by NMFS is purchased (i.e., a laptop, personal computer, or message display terminal). A configuration option is available to automatically send position reports to a private address, such as a fleet management company.

General Procedure for Acquiring and Installing Approved VMS

A vessel owner wishing to purchase either of the approved systems may contact the entity identified under the heading VMS Provider Addresses for Thrane & Thrane TT-3022D-NMFS and TT-3026-NMFS. The owner should identify himself or herself as a vessel owner in the “U.S. South Atlantic Rock Shrimp Fishery.” The Thrane & Thrane transceiver set the vessel owner purchases will be configured for the Rock Shrimp Fishery.

To use the TT-3022-NMFS or the TT-3026-NMFS, the vessel owner will need to establish an Inmarsat-C system use contract with an approved Inmarsat-C communications service provider. The owner will be required to complete the Inmarsat-C “Registration for Service Activation for Maritime Mobile Earth Station.” The owner should consult with LandSea Systems when completing this form.

LandSea Systems personnel will perform the following before shipment: (a) Configure the transceiver according to NOAA Fisheries Office for Law Enforcement specifications for the South Atlantic Rock Shrimp Fishery; (b) download the predetermined NMFS position reporting and broadcast command identification numbers into the unit; (c) test the unit to ensure operation when installation has been completed on the vessel; and (d) forward the Inmarsat service provider and the transceiver identifying information to the NOAA Fisheries Office for Law Enforcement.

III. Approved Communications Service Providers

NOAA Fisheries Office for Law Enforcement has approved the below-listed Telenor and Xantic satellite communications services for the South Atlantic Rock Shrimp Fishery.

A. Telenor Satellite Services/Inmarsat-C

Inmarsat-C is a store-and-forward data messaging service. Inmarsat C allows users to send and receive information virtually anywhere in the world, on land, at sea, and in the air. Inmarsat-C supports a wide variety of applications including Internet e-mail*, position and weather** reporting, a free daily news service*, and remote equipment monitoring and control. Mariners can use Inmarsat-C free of charge to send critical safety at sea messages as part of the U.S. Coast Guard's Automated Mutual-Assistance Vessel Rescue system and of the NOAA Shipboard Environmental Acquisition System programs**. (Features marked with * require use of attached laptop; features marked with ** can be accessed using the TT3022D.)

For the Telenor address, look under the heading VMS Provider Addresses.

Inmarsat-C features: Vessel owners wishing to use Inmarsat-C will need to purchase an Inmarsat-C transceiver approved for the fishery. The owner will need to complete an Inmarsat-C system use contract with Telenor, including a provision for a mobile earth station license (FCC requirement). The transceiver will need to be commissioned with Inmarsat according to Telenor instructions. The owner should refer to and follow the configuration, installation, and service activation procedures for the specific transceiver purchased.

B. Xantic

Xantic is a global leader in providing Vessel Monitoring Services to the fishing industry. By installing on the vessel an Inmarsat-C transceiver approved by NOAA Fisheries Office for Law Enforcement, fishermen can send and receive E-mail*, to and from land; the transceiver automatically sends vessel position reports to the NOAA Fisheries Office for Law Enforcement, and is fully compliant with the International Coast Guard Search and Rescue Centers**. (Features marked with * require use of attached laptop, features marked with ** can be accessed from the TT3022D.)

XANTIC Vessel Monitoring System Services are being sold through its Service Provider, LandSea Systems, Inc. For the LandSea and XANTIC addresses, look under the heading VMS Provider Addresses.

XANTIC Features offered through LandSea Systems: Customer Service supports the security and privacy of vessel accounts and messages with the following: (a) Password authentication for vessel owners or agents and for the NOAA Fisheries Office for Law Enforcement to prevent unauthorized changes or inquiries; and (b) separation of private messages from NOAA Fisheries Office for Law Enforcement messages. (The Office for Law Enforcement receives VMS-related position reports, only.)

Billing is separated between accounts for the vessel owner and the NOAA Fisheries Office for Law Enforcement. VMS position reports and vessel-initiated messaging are paid for by the vessel owner. Messaging initiated from the Office for Law Enforcement operations center is paid for by NOAA.

LandSea Systems provides customer service for XANTIC users to support and establish two-way transmission of transceiver unit configuration commands between the transceiver and land-based control centers. This supports the Office for Law Enforcement's message needs and, optionally, fishermen's private message needs.

The vessel owner can configure automatic position reports to be sent to a private address, such as to a fleet management company. The vessel can send and receive private e-mail and other messages when the transceiver has such an input device as a laptop or personal computer attached.

Vessel owners wishing to use XANTIC services will need to purchase an Inmarsat-C transceiver approved for the fishery. The owner will need to complete an Inmarsat-C system use contract with XANTIC, including a mobile earth station license (FCC requirement). The transceiver will need to be commissioned with Inmarsat according to XANTIC's instructions. The owner should refer to and follow the configuration, installation, and service activation procedures for the specific transceiver purchased.

General Procedures Regarding Communication Service Providers

It is recommended that the vessel owner keep for his or her records and that Telenor and Xantic have on record the following identifying information: (a) Signed and dated receipts and contracts; (b) transceiver serial number; (c) Telenor or Xantic customer number, user name and password; (d) e-mail address of transceiver; (e) Inmarsat identification number; (f) owner name; (g) vessel name; (h) vessel documentation or registration number; and (i) mobile earth station license (FCC license).

Pursuant to 50 CFR 622.9(b), the Agency will provide an installation and activation checklist which the vessel owner must follow. The vessel owner must sign a statement on the checklist certifying compliance with the installation procedures and return the checklist to NOAA Enforcement Southeast. Installation can be performed by experienced crew or by an electronics specialist.

The owner should confirm the TT-3022-NMFS or TT-3026-NMFS operation and communications service to ensure that position reports are automatically sent to and received by NOAA Enforcement Southeast, before leaving on a fishing trip under VMS. NOAA Enforcement Southeast does not regard the fishing vessel as meeting the requirements of 50 CFR 622.9 until position reports are automatically received. For confirmation purposes, contact NOAA Enforcement Southeast in St. Petersburg, FL, at 727-570-5344.

IV. VMS Provider Addresses

For Thrane & Thrane TT-3022-NMFS or TT-3026-NMFS information, contact Ken Ravenna, Marine Products, LandSea Systems, Inc., 509 Viking Drive, Suite K, L & M, Virginia Beach, VA 23452; voice: 757-463-9557; fax: 757-463-9581, e-mail: KCR@LandSeaSystems.com.; website: http://www.landseasystems.com.

For Telenor information, contact Telenor Satellite Services, 6560 Rock Spring Drive, Bethesda, MD 20817; Telenor Customer Care, phone: 800-685-7898 or 301-838-7700; e-mail: customercare@telenor-usa.com.; website: www.telenor-usa.com. Alternate Contact: Courtney Coleman, Manager COMSAT-C Services Marketing, 6560 Rock Spring Dr., Bethesda, MD 20817; phone: 301-214-3293; e-mail: courtney.coleman@telenor-usa.com.

For XANTIC information, contact LandSea Systems Inc., Donna Sherman, 509 Viking Drive, Suite K, L, M, Virginia Beach, VA 23452; voice: 757 463-9557; fax: 757 463-9581 e-mail: airtime@landseasystems.com. Alternate contacts: XANTIC, Folef Hooft Graafland, 6100 Hollywood Boulevard, Suite 410, Hollywood, FL 33024; voice: 954-962-9908 Ext. 11; fax: 954-962-1164; Cellular: 954-214-2609; e-mail: folef.hooftgraafland@XANTIC.net; Andre Cortese, 1211 Connecticut Ave., NW, Suite 504, Washington, DC 20036; telephone number: 202-785-5615; e-mail: andre.cortese@XANTIC.net; Bobbie Thach, 1211 Connecticut Ave, NW, Suite 504, Washington, DC 20036; voice: 202-785-5614; fax: 202-785-5616; e-mail: bobbie.thach@XANTIC.net. Customer Service, contact LandSea Systems, Inc., 509 Viking Drive, Suite K, L & M, Virginia Beach, VA 23452; voice: 757-463-9557; fax: 757-463-9581, e-mail: KCR@LandSeaSystems.com.; or XANTIC Netherlands, toll free: 1-888-440-8988; website: www.XANTIC.net.

V. Additional Information

The NOAA Fisheries Office for Law Enforcement is constantly evaluating new and emerging technologies for inclusion in the VMS program. Additional units may be approved for use the South Atlantic Rock Shrimp Fishery at a later date.

Authority: 16 U.S.C. 1801, et seq.

Dated: July 9, 2003.
Bruce C. Morehead,
Acting Director, Office of Sustainable Fisheries, National Marine Fisheries Service.

[FR Doc. 03-17757 Filed 7-11-03; 8:45 am]

BILLING CODE 3510-22-S